DEPARTMENT OF COMMERCE

Foreign-Trade Zones Board

[B-44-2015]

Notification of Proposed Production Activity; Hyundai Motor Manufacturing Alabama, LLC; Subzone 222A (Motor Vehicles); Montgomery, Alabama

The Montgomery Area Chamber of Commerce, grantee of FTZ 222, submitted a notification of proposed production activity to the FTZ Board on behalf of Hyundai Motor Manufacturing Alabama, LLC (HMMA), operator of Subzone 222A, for HMMA's facility located in Montgomery, Alabama. The notification conforming to the requirements of the regulations of the FTZ Board (15 CFR 400.22) was received on June 5, 2015.

HMMA already has authority to produce light-duty passenger sedans, sport utility vehicles, minivans and related engines within Subzone 222A. The current request would add certain foreign-status components to the scope of authority. Pursuant to 15 CFR 400.14(b), FTZ activity would be limited to the specific foreign-status components and specific finished products described in the submitted notification (as described below) and subsequently authorized by the FTZ Board.

Production under FTZ procedures could exempt HMMA from customs duty payments on the foreign status components used in export production. On its domestic sales, HMMA would be able to choose the duty rate during customs entry procedures that applies to passenger motor vehicles and spark ignition and diesel engines (duty rate—2.5%) for the foreign-status inputs noted below and in the existing scope of authority. Customs duties also could possibly be deferred or reduced on foreign status production equipment.

The components sourced from abroad include: Plastic tape/bags/caps; rubber hoses; owner's manuals; roller chains; screwdrivers; spark-ignition engines; hydraulic motors; vacuum pumps; pump parts; turbochargers; heat exchangers; electrical motors (DC); spark plugs; ignition coils; lighting equipment parts; audio speakers/amplifiers; video cameras; radar apparatus unit assemblies; remote control apparatus; capacitors; electrical switches; fuse boxes; computer/bracket assemblies; coaxial cables; coils; brakes; brake parts; clutches; clutch parts; electrical sensors; and, seat parts (duty rate ranges from free to 6.2%).

Public comment is invited from interested parties. Submissions shall be addressed to the FTZ Board's Executive Secretary at the address below. The closing period for their receipt is August 11, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: June 22, 2015.
Elizabeth Whiteman,
Acting Executive Secretary.

[FR Doc. 2015-16372 Filed 7-1-15; 8:45 am]

BILLING CODE 3510-DS-P